FEDERAL DEPOSIT INSURANCE CORPORATION

Agency Information Collection Activities; Renewal of a Currently Approved Collection; Submission for OMB Review; Comment Request

AGENCY: Federal Deposit Insurance Corporation (FDIC).

ACTION: Notice and request for comment.

SUMMARY: In accordance with the requirements of the Paperwork Reduction Act of 1995 (44 U.S.C. chapter 35), the FDIC may not conduct or sponsor, and the respondent is not required to respond to, an information collection unless it displays a currently valid Office of Management and Budget (OMB) control number. The FDIC, as part of its continuing effort to reduce paperwork burden, invites the general public and other federal agencies to take this opportunity to comment on a continuing information collection. Specifically, the FDIC is soliciting comment concerning its information collection titled, Basel II Capital: Disclosures and Recordkeeping, and bearing OMB Control No. 3064-0153. The FDIC also gives notice that it has sent the information collection to OMB for review.

DATES: Comments must be submitted on or before December 9, 2009.

ADDRESSES: Interested parties are invited to submit written comments. All comments should refer to the name and number of the collection. Comments may be submitted by any of the following methods:

• http://www.FDIC.gov/regulations/laws/federal/notices.html.

• E-mail: comments@FDIC.gov. Include “Basel II Capital: Disclosures and Recordkeeping, 3064-0154,” in the subject line of the message.

• Mail: Leneta G. Gregorie, Counsel, Federal Deposit Insurance Corporation, 550 17th Street, NW., Washington, DC 20429.

• Hand Delivery: Comments may be hand delivered to the guard station at the rear of the 550 17th Street Building (located on F Street) on business days between 7 a.m. and 5 p.m.

Public Inspection: All comments received will be posted without change to http://www.fdic.gov/regulations/laws/federal/notices.html including any personal information provided. Comments may be inspected at the FDIC Public Information Center, Room E-1002, 3501 Fairfax Drive, Arlington, VA 22226, between 9 a.m. and 5 p.m. on business days.

Additionally, commenters may send a copy of their comments to the OMB desk officer for the FDIC by mail to the Office of Information and Regulatory Affairs, U.S. Office of Management and Budget, New Executive Office Building, Room 10235, 725 17th Street, NW., Washington, DC 20503, or by fax to (202) 395-6974.

FOR FURTHER INFORMATION CONTACT: For further information, please contact Leneta G. Gregorie, Counsel, (202) 898-3719, Legal Division, Federal Deposit Insurance Corporation, 550 17th Street, NW., Washington, DC 20429.

SUPPLEMENTARY INFORMATION: Proposal to extend for three years without revision the following currently approved collection of information:

Title: Basel II Capital: Disclosures and Recordkeeping.

OMB Number: 3064-0153.

Frequency of Response: Annually.

Affected Public: Insured state nonmember banks, insured state branches of foreign banks, and certain subsidiaries of those entities.

Estimated Number of Respondents: 19.

Estimated Time per Response: Written implementation plan—330 hours; documentation—19 hours; systems maintenance—27.89 hours; prior written approvals—16.84 hours; control, oversight and verification of systems—11.05 hours; disclosures—5.79 hours.

Estimated Total Annual Burden: 7,801 hours.

General Description of Report: This information collections is mandatory: 12 U.S.C. 1831(o).

Abstract: On December 7, 2007, the FDIC, jointly with the Board of Governors of the Federal Reserve Board, the Office of the Comptroller of the Currency, and the Office of Thrift Supervision, issued the joint final rule entitled Risk-Based Capital Standards: Advanced Capital Adequacy Framework (final rule) implementing a new risk-based regulatory capital framework for institutions in the United States. The final rule requires certain large or internationally active banks and bank holding companies (BHCs) to (1) Adopt a written implementation plan, (2) update that plan for any mergers, (3) obtain prior written approvals for the use of certain approaches for determining risk-weighted assets, and (4) make certain public disclosures regarding their capital ratios, their components, and information on implicit support provided to a securitization. The paperwork burden associated with these requirements has been approved under OMB Control No. 3064-0153.

Request for Comment

Comments are invited on:

a. Whether the information collection is necessary for the proper performance of the agency's functions, including whether the information has practical utility;

b. The accuracy of the agency's estimates of the burden of the information collection, including the validity of the methodology and assumptions used;

c. Ways to enhance the quality, utility, and clarity of the information to be collected;

d. Ways to minimize the burden of the information collection on respondents, including through the use of automated collection techniques or other forms of information technology; and,

e. Estimates of capital or start up costs and costs of operation, maintenance, and purchase of services to provide information.

All comments submitted in response to this notice will become a matter of public record.

Dated at Washington, DC, this 3rd day of November, 2009.
Federal Deposit Insurance Corporation.
Robert E. Feldman,
Executive Secretary.

[FR Doc. E9-26863 Filed 11-6-09; 8:45 am]

BILLING CODE 6714-01-P; 4810-33-P; 6210-01-P; 6220-01-P